DEPARTMENT OF TRANSPORTATION

Surface Transportation Board

[Docket No. FD 35973]

SteelRiver Infrastructure Fund North America LP; SteelRiver Devco Holdings LLC; and SR Transportation Holdings LLC—Continuance in Control Exemption—West Belt Railway LLC

SteelRiver Infrastructure Fund North America LP (SteelRiver), SteelRiver Devco Holdings LLC (Devco), and SR Transportation Holdings LLC (SRTH) (collectively, Applicants), all noncarriers, have jointly filed a verified notice of exemption pursuant to 49 CFR 1180.2(d)(2) to continue in control of West Belt Railway LLC (WBRY), upon WBRY's becoming a Class III rail carrier.

This transaction is related to a concurrently filed verified notice of exemption in West Belt Railway—Lease & Operation Exemption Including Interchange Commitment—Terminal Railroad Association of St. Louis, Docket No. FD 35972, in which WBRY seeks Board approval to lease from Terminal Railroad Association of St. Louis, and to operate, approximately 9.66 miles of rail line consisting of the following two segments: (1) The West Belt Industry Lead (WBIL), from milepost 1.07 at Adelaide Avenue to the end of the track at milepost 9.54; and (2) the Central Belt Industrial Lead, from the point of connection with the WBIL at milepost 9.54 to the end of the track, all located in the City of St. Louis, St. Louis County, Mo.

This transaction may be consummated on November 21, 2015, the effective date of the exemption (30 days after the verified notice of exemption was filed).

WBRY is owned by Devco. Devco is owned by SteelRiver. Devco and SRTH do not control any carriers. SteelRiver is owned by a diverse group of U.S. and foreign pension funds, insurance companies, and other investors. SteelRiver controls PRC Funding LLC, a noncarrier, which controls Patriot Funding LLC, a noncarrier, which controls PRC Holdings LLC, a noncarrier, which controls PRC Midco LLC, a noncarrier, which controls Patriot Rail Company LLC, (Patriot), a noncarrier. Patriot controls 13 Class III railroads. For a complete list of these rail carriers, and the states in which they operate, see the notice of exemption filed on October 22, 2015, in this proceeding. The notice is available on the Board's Web site at WWW.STB.DOT.GOV. The notice therefore seeks exemption for Devco and SRTH to continue in control of WBRY, and for SteelRiver to continue indirect control of WBRY when WBRY becomes a Class III rail carrier.

Applicants state that: (1) WBRY does not connect with any of the rail carriers controlled by Patriot; (2) the proposed transaction is not part of a series of anticipated transactions that would connect WBRY with each other or with any rail carriers controlled by Patriot; and (3) the proposed transaction does not involve a Class I rail carrier. The proposed transaction is therefore exempt from the prior approval requirements of 49 U.S.C. 11323 pursuant to 49 CFR 1180.2(d)(2).

Applicants state that the proposed transaction is intended to promote the investment objectives of Applicants and to improve the efficiency, financial strength, and ability of WBRY to meet the needs of shippers.

Under 49 U.S.C. 10502(g), the Board may not use its exemption authority to relieve a rail carrier of its statutory obligation to protect the interests of its employees. Section 11326(c), however, does not provide for labor protection for transactions under §§ 11324 and 11325 that involve only Class III rail carriers. Accordingly, the Board may not impose labor protective conditions here, because all of the carriers involved are Class III carriers.

If the verified notice contains false or misleading information, the exemption is void ab initio. Petitions to revoke the exemption under 49 U.S.C. 10502(d) may be filed at any time. The filing of a petition to revoke will not automatically stay the effectiveness of the exemption. Petitions to stay must be filed by November 13, 2015 (at least seven days before the exemption becomes effective).

An original and 10 copies of all pleadings, referring to Docket No. FD 35973 must be filed with the Surface Transportation Board, 395 E Street SW., Washington, DC 20423-0001. In addition, a copy of each pleading must be served on: Thomas F. McFarland, Thomas F. McFarland, P.C., 208 South LaSalle Street, Suite 1890, Chicago, IL 60604.

Board decisions and notices are available on our Web site at: WWW.STB.DOT.GOV.

Decided: November 3, 2015.
By the Board, Joseph H. Dettmar, Acting Director, Office of Proceedings.
Tia Delano,
Clearance Clerk.

[FR Doc. 2015-28335 Filed 11-5-15; 8:45 am]

BILLING CODE 4915-01-P